DEPARTMENT OF DEFENSE

Department of the Navy

[Docket No. USN-2007-0023]

Privacy Act of 1974; System of Records

AGENCY: Department of the Navy.

ACTION: Notice to add a system of records.

SUMMARY: The Department of the Navy proposes to add a system of records to its inventory of record systems subject to the Privacy Act of 1974 (5 U.S.C. 552a), as amended.

DATES: The proposed action will be effective on May 11, 2007, unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy's notices for systems of records subject to the Privacy Act of 1974 (5 U.S.C. 552a), as amended, have been published in the Federal Register and are available: from the address above.

The proposed systems reports, as required by 5 U.S.C. 552a(r) of the Privacy Act, were submitted on April 2, 2007, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: April 5, 2007.
L.M. Bynum,
Alternate OSD Federal Register Liaison Officer, Department of Defense.

N01070-13

System name:

Navy-Marine Corps Mobilization Processing System (NMCMPS).

System location:

Primary: Navy Personnel Command (PERS-460, 5720 Integrity Drive, Millington, TN 38055-3120.

Secondary: Organizational elements of the Department of the Navy. Official mailing addresses are published in the Standard Navy Distribution List that is available at http://doni.daps.dla.mil/sndl.aspx.

Categories of individuals covered by the system:

All Navy active duty and reserve personnel in support of Navy and/or Marine Corps operations.

Categories of records in the system:

Names, Social Security numbers (SSN), rate/rank, record of assignments, addresses, telephone numbers, qualifications, command information, Unit Identification Code, Navy Enlisted Code/Designator, date reported to command, date departed command, training, and military orders.

Authority for maintenance of the system:

10 U.S.C. 5013, Secretary of the Navy and E.O. 9397 (SSN).

Purpose(s):

To identify and assign Navy-Marine Corps members in worldwide locations to provide support for contingency operations, mobilize and demobilize reserve members, and submit requirements for personnel.

Routine uses of records maintained in the system, including categories of users and the purposes of such uses:

In addition to those disclosures generally permitted under 5 U.S.C. 552a(b) of the Privacy Act, these records of information contained therein may specifically be disclosed outside the DoD as a routine use pursuant to 5 U.S.C. 552a(b)(3) as follows:

The DoD ‘Blanket Routine Uses’ that appear at the beginning of the Navy's compilation of system of record notices also apply to this system.

Policies and practices for storing, retrieving, accessing, retaining, and disposing of records in the system:

Storage:

Paper records in file folders and electronic storage media.

retrievability:

Name, Social Security Number (SSN), and login ID and password.

Safeguards:

Computer facilities and terminals are located in restricted areas accessible only to authorized persons that are properly screened, cleared and trained. Access to records is controlled by the use of need-to-know “roles” in the application. Information is password protected. Paper records downloaded from the database are labeled by default properly IAW level of classification and “For Official Use Only”.

Retention and disposal:

Temporary records are maintained in the file until obsolete or the member is separated from the Navy. Permanent records are submitted to Navy Personnel Command to be entered into the Electronic Military Personnel Records System (EMPRS). After 62 years of the service member's obligated service, these permanent records are transferred to the National Archives and Records Administration.

System(s) manager and address:

Policy Official: Commander, Navy Personnel Command (PERS-46), 5720 Integrity Drive, Millington, TN 38055-3120.

Record Holder: Commanding Officers, Officers in Charge, and Heads of Department of the Navy activities. Organizational elements of the Department of the Navy.

Official mailing addresses are published in the Standard Navy Distribution List that is available at http://doni.daps.dla.mil/sndl.aspx.

Notification procedure:

Individuals seeking to determine whether information bout themselves is contained in this system of records should address written inquiries to:

Active duty and Reserve Navy members may address their request at Web site https://nmcmps.bol.navy.mil by using the Bureau of Naval Personnel Online login ID and password.

Inquiries regarding permanent records of all active duty and reserve members (except Individual Ready Reserve (IRR), former members discharged, deceased, or retired since 1995, should be addressed to the Commander, Navy Personnel Command (PERS-312), 5720 Integrity Drive, Millington, TN 38055-3120.

Inquiries regarding records of former members discharged, deceased, or retired before 1995 should be addressed to the Director, National Personnel Records Center, Military Personnel Records, 9700 Page Avenue, St. Louis, MD 63132-5100 or at Web site http://www.archives.gov/veterans/military-service-records/get-service-records.html to obtain guidance on how to access records.

Inquiries regarding field service records of current members should be addressed to the Personnel Office or Personnel Support Detachment providing administrative support to the local activity to which the individual is assigned. Official mailing addresses are published in the Standard Navy Distribution List available at http://neds.daps.dla.mil/default.aspx.

Requests should contain individual's name, Social Security Number (SSN) and/or enlisted service number/officer file number, rank/rate, designator, military status, address, and signature.

Record access procedures:

Individuals seeking access to information about themselves contained in this system of records should address written inquiries to:

Active duty and Reserve navy members may address their request at Web site https://nmcmps.bol.navy.mil by suing the Bureau of Naval Personnel Online login ID and password.

Inquiries regarding permanent records of all active duty and reserve members (except Individual Ready Research (IRR)), former members discharged, deceased, or retired since 1995, should be addressed to the Commander, Navy Personnel Command (PERS-312), 5720 Integrity Drive, Millington, TN 38055-3120.

Inquiries regarding records of former members discharged, deceased, or retired before 1995 should be addressed to the Director, National Personnel Records Center, Military Personnel Records, 9700 Page Avenue, St. Louis, MO 63132-5100 or at Web site http://www.archives.gov/veterans/military-service-records/get-service-records.html to obtain guidance on how to access records.

Inquiries regarding field service records of current members should be addressed to the Personnel Office or Personnel Support Detachment providing administrative support to the local activity to which the individual is assigned. Official mailing addresses are published in the Standard Navy Distribution List available at http://neds.daps.dla.mil/default.aspx.

Requests should contain individual's name, Social Security Number (SSN) and/or enlisted service number/officer file number, rank/rate, designator, military status, address, and signature.

Contesting record procedures:

The navy's rules for accessing records, and for contesting contents and appealing initial agency determinations are published in Secretary of the Navy Instruction 5211.5; 32 CFR part 701; or may be obtained from the system manager.

Record source categories:

Individual, official message traffic, general correspondence concerning the individual, official military records, official records of professional qualifications.

Exemptions claimed for the system:

None.

[FR Doc. 07-1792 Filed 4-10-07; 8:45 am]

BILLING CODE 5001-06-M